DEPARTMENT OF ENERGY

Federal Energy Regulatory Commission

[Docket No. CP19-500-000]

Northern Natural Gas Company; Notice of Availability of the Environmental Assessment for the Proposed Palmyra to South Sioux City A-Line Abandonment Project

The staff of the Federal Energy Regulatory Commission (FERC or Commission) has prepared an environmental assessment (EA) for the Palmyra to South Sioux City A-Line Abandonment Project, proposed by Northern Natural Gas Company (Northern) in the above-referenced docket. Northern requests authorization to abandon a segment of its A-Line Pipeline and construct, own, and operate two new natural gas pipeline loops.¹

¹ A loop is a pipeline that is constructed adjacent to another pipeline for the purpose of increasing capacity in this portion of the system.

The EA assesses the potential environmental effects of the construction and operation of the Palmyra to South Sioux City A-Line Abandonment Project in accordance with the requirements of the National Environmental Policy Act (NEPA). The FERC staff concludes that approval of the proposed project, with appropriate mitigating measures, would not constitute a major federal action significantly affecting the quality of the human environment.

The proposed Palmyra to South Sioux City A-Line Abandonment Project is in Nebraska and includes the following facilities:

• Abandonment in place of 44.2 miles of 20-inch-diameter and 14.8 miles of 16-inch-diameter mainline in Otoe, Lancaster, Saunders, and Dodge Counties (M581A);

• abandonment in place of 58.7 miles of 16-inch-diameter mainline in Dodge, Burt, Thurston, and Dakota Counties (M570A);

• construction of 1.7 miles of new 24-inch-diameter pipeline loop in Otoe County (Palmyra North D-Line Loop);

• construction of 2.5 miles of new 24-inch-diameter pipeline loop in Dodge County (Fremont North D-Line Loop);

• construction of a new pig ² launcher and two valve sites within the existing Palmyra Compressor Station at the beginning of the Palmyra D-Line Loop and a pig receiver and one valve site at the end of the pipeline loop; and

² A “pig” is a tool that the pipeline company inserts into and pushes through the pipeline for cleaning the pipeline, conducting internal inspections, or other purposes.

• construction of a new pig launcher and one valve site within the existing Fremont Compressor Station and one valve site at the end of the Fremont North D-Line Loop.

The Commission mailed a copy of the Notice of Availability to federal, state, and local government representatives and agencies; elected officials; environmental and public interest groups; Native American tribes; potentially affected landowners and other interested individuals and groups; and newspapers and libraries in the project area. The EA is only available in electronic format. It may be viewed and downloaded from the FERC's website (www.ferc.gov), on the Environmental Documents page (https://www.ferc.gov/industries/gas/enviro/eis.asp). In addition, the EA may be accessed by using the eLibrary link on the FERC's website. Click on the eLibrary link (https://www.ferc.gov/docs-filing/elibrary.asp), click on General Search, and enter the docket number in the “Docket Number” field, excluding the last three digits (i.e., CP19-500). Be sure you have selected an appropriate date range. For assistance, please contact FERC Online Support at FercOnlineSupport@ferc.gov or toll free at (866) 208-3676, or for TTY, contact (202) 502-8659.

Any person wishing to comment on the EA may do so. Your comments should focus on the EA's disclosure and discussion of potential environmental effects, reasonable alternatives, and measures to avoid or lessen environmental impacts. The more specific your comments, the more useful they will be. To ensure that the Commission has the opportunity to consider your comments prior to making its decision on this project, it is important that we receive your comments in Washington, DC, on or before 5:00 p.m. Eastern Time on January 13, 2020.

For your convenience, there are three methods you can use to file your comments to the Commission. The Commission encourages electronic filing of comments and has staff available to assist you at (866) 208-3676 or FercOnlineSupport@ferc.gov. Please carefully follow these instructions so that your comments are properly recorded.

(1) You can file your comments electronically using the eComment feature on the Commission's website (www.ferc.gov) under the link to Documents and Filings. This is an easy method for submitting brief, text-only comments on a project;

(2) You can also file your comments electronically using the eFiling feature on the Commission's website (www.ferc.gov) under the link to Documents and Filings. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address. Be sure to reference the project docket number (CP19-500-000) with your submission: Kimberly D. Bose, Secretary, Federal Energy Regulatory Commission, 888 First Street NE, Room 1A, Washington, DC 20426.

Any person seeking to become a party to the proceeding must file a motion to intervene pursuant to Rule 214 of the Commission's Rules of Practice and Procedures (18 CFR 385.214). Motions to intervene are more fully described at http://www.ferc.gov/resources/guides/how-to/intervene.asp. Only intervenors have the right to seek rehearing or judicial review of the Commission's decision. The Commission may grant affected landowners and others with environmental concerns intervenor status upon showing good cause by stating that they have a clear and direct interest in this proceeding which no other party can adequately represent. Simply filing environmental comments will not give you intervenor status, but you do not need intervenor status to have your comments considered.

Additional information about the project is available from the Commission's Office of External Affairs, at (866) 208-FERC, or on the FERC website (www.ferc.gov) using the eLibrary link. The eLibrary link also provides access to the texts of all formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Dated: December 13, 2019.
Kimberly D. Bose,
Secretary.

[FR Doc. 2019-27416 Filed 12-18-19; 8:45 am]

BILLING CODE 6717-01-P